FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than February 6, 2004.

A. Federal Reserve Bank of Richmond (A. Linwood Gill, III, Vice President) 701 East Byrd Street, Richmond, Virginia 23261-4528:

1. Brian F. Thomas, Morgantown, West Virginia, and Roger A. Hardesty, Kingwood, West Virginia; to acquire voting shares of State Bancorp, Inc., Bruceton Mills, West Virginia, and thereby indirectly acquire voting shares of Bruceton Bank, Bruceton Mills, West Virginia, and The Terra Alta Bank, Terra Alta, West Virginia.

Board of Governors of the Federal Reserve System, January 16, 2004.
Robert deV. Frierson,
Deputy Secretary of the Board.

[FR Doc. 04-1391 Filed 1-22-04; 8:45 am]

BILLING CODE 6210-01-S